DEPARTMENT OF COMMERCE

National Oceanic and Atmospheric Administration

[RTID 0648-XD891]

Mid-Atlantic Fishery Management Council (MAFMC); Public Meeting

AGENCY: National Marine Fisheries Service (NMFS), National Oceanic and Atmospheric Administration (NOAA), Commerce.

ACTION: Notice; public meeting.

SUMMARY: The MAFMC will hold a public meeting (webinar) of its Spiny Dogfish Advisory Panel. See SUPPLEMENTARY INFORMATION for agenda details.

DATES: The meeting will be held on Thursday, May 9, 2024, from 5 p.m. to 7:30 p.m.

ADDRESSES: Webinar connection information will be posted to the calendar prior to the meeting at www.mafmc.org.

Council address: Mid-Atlantic Fishery Management Council, 800 N State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The main purpose of the meeting is for the Advisory Panel (AP) to create a Fishery Performance Report that includes advisor input on specifications and management measures for spiny dogfish. While a management track assessment was used in 2023 to set 2024-2026 specifications, multi-year specifications are reviewed each year. The MAFMC will consider the Fishery Performance Report later in 2024 when 2025 spiny dogfish specifications are reviewed. Public comments will also be taken.

Special Accommodations

The meeting is physically accessible to people with disabilities. Requests for sign language interpretation or other auxiliary aid should be directed to Shelley Spedden, (302) 526-5251, at least 5 days prior to the meeting date.

Authority: 16 U.S.C. 1801 et seq.

Dated: April 18, 2024.
Rey Israel Marquez,
Acting Deputy Director, Office of Sustainable Fisheries, National Marine Fisheries Service.

[FR Doc. 2024-08654 Filed 4-22-24; 8:45 am]

BILLING CODE 3510-22-P